DEPARTMENT OF HEALTH AND HUMAN SERVICES

Food and Drug Administration

[Docket No. FDA-2012-P-1189]

Canned Tuna Deviating From Identity Standard; Temporary Permit for Market Testing

AGENCY: Food and Drug Administration, HHS.

ACTION: Notice.

SUMMARY: The Food and Drug Administration (FDA or we) received an application for a temporary permit from Chicken of the Sea International (the applicant). We are announcing that we have issued a temporary permit to the applicant to market test products (designated as “no drain canned tuna” products) that deviate from the U.S. standard of identity for canned tuna. The purpose of the temporary permit is to market test the product throughout the United States. The permit will allow the applicant to measure consumer acceptance of the new product and assess the new product's commercial feasibility.

DATES: This permit is effective for 15 months, beginning on the date the applicant introduces or causes the introduction of one or more of the test products into interstate commerce, but not later than April 10, 2013.

FOR FURTHER INFORMATION CONTACT: Loretta A. Carey, Center for Food Safety and Applied Nutrition (HFS-820), Food and Drug Administration, 5100 Paint Branch Pkwy., College Park, MD 20740, 240-402-2371.

SUPPLEMENTARY INFORMATION: We are giving notice that we have issued a temporary permit to Chicken of the Sea International, 9330 Scranton Rd., suite 500, San Diego, CA 92121-7706. We are issuing the temporary permit in accordance with 21 CFR 130.17, which addresses temporary permits for interstate shipment of experimental packs of food varying from the requirements of standards of identity issued under section 401 of the Federal Food, Drug, and Cosmetic Act (21 U.S.C. 341).

The permit covers limited interstate marketing tests of products identified as “no drain canned tuna” products. These test products deviate from the U.S. standard of identity for canned tuna (21 CFR 161.190, hereinafter “the standard”) in that the test products are prepared by: (1) Adding such a small amount of liquid that the products will not contain a packing medium in accordance with the standard; (2) adding seasoning and flavoring ingredients (i.e., lemon juice concentrate, lime oil, and chili paste) that are not permitted under the current standard; and (3) deviating from the fill requirements of the standard without including on the product label a general statement of substandard fill. The test products meet all the requirements of the standard with the exception of these three deviations. The purpose of this temporary permit is to market test the product throughout the United States. The permit will allow the applicant to measure customer acceptance of the new product and assess the new product's commercial feasibility.

This permit provides for the temporary marketing of a total 533,333 cases of 12 x 4 ounce cans (totaling 6.4 million cans), covering 1.6 million pounds (725,747 kg) of test products. The test products will be manufactured by: Thai Union Frozen Products Public Company PLC (located at 30/2 Sethakit 1 Rd., Tambon Tarsrai, Ampheur Muang, Samutsakon 74000, Thailand); Paul Paulet SAS (located at SA Zone Industrielle De Pouldavid, 29177 Dourrneinez, France); Pioneer Food Company (located at Pioneer Food Company Building, P.O. Box 4D, Fishing Harbour, Tema, Ghana); and Indian Ocean Tuna LTD (located at P.O Box 676, Fishing Port Victoria, Mahé, Seychelles). Chicken of the Sea International will distribute the test products throughout the United States. Under this temporary permit, the principal display panels of the test products must bear the phrase “no drain canned tuna” in addition to one of the following names: “Solid Light Tuna,” ”Solid White Albacore Tuna,” ”Solid Light Tuna Thai Chili,” and “Solid Light Tuna Lemon Pepper.” The information panels on the labels of the test products must bear nutrition labeling in accordance with 21 CFR 101.9. Each of the ingredients used in the food must be declared on the labels of the test products as required by the applicable sections of 21 CFR part 101. This permit is effective for 15 months, beginning on the date the applicant introduces or causes the introduction of one or more of the test products into interstate commerce, but not later than April 10, 2013.

Dated: December 26, 2012.
Barbara Schneeman,
Director, Office of Nutrition, Labeling and Dietary Supplements, Center for Food Safety and Applied Nutrition.

[FR Doc. 2013-00293 Filed 1-9-13; 8:45 am]

BILLING CODE 4160-01-P